DEPARTMENT OF TRANSPORTATION

Federal Transit Administration

[FTA Docket No. FTA 2021-0011]

Request for Information on Transit Safety Concerns

AGENCY: Federal Transit Administration, United States Department of Transportation (DOT).

ACTION: Notice of extension of comment period.

SUMMARY: The Federal Transit Administration (FTA) is extending the comment period for the request for information (RFI) regarding FTA's Public Transportation Safety Program (Safety Program), which was published on July 15, 2021, with the original comment period closing on August 16, 2021.

DATES: Comments are requested by September 22, 2021.

ADDRESSES: You may file comments identified by docket number FTA-2021-0011 by any of the following methods:

• Federal eRulemaking Portal: Go to https://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: (202) 493-2251.

Instructions: For detailed instructions on submitting comments, see the Public Participation heading of the SUPPLEMENTARY INFORMATION section of this document. Note that all comments received will be posted without change to http://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at https://www.transportation.gov/privacy.

FOR FURTHER INFORMATION CONTACT: Ray Biggs, Office of Transit Safety and Oversight—Safety Risk Management and Assurance Division, 1200 New Jersey Avenue SE, Mail Stop TSO-10, Washington, DC 20590, (202) 366-7460 or Ray.Biggs@dot.gov.

SUPPLEMENTARY INFORMATION: In a letter submitted to the docket dated August 11, 2021, the American Public Transportation Association (APTA), on behalf of more than 1,300 member organizations, requested a 60-day extension of the comment period seeking input on public transit safety concerns published in the Federal Register on July 15, 2021 (86 FR 37400). As justification for this extension, APTA cited increased grant activity, the recent passage of an infrastructure bill, and ongoing responses to the COVID-19 pandemic as pulling transit systems in many directions. APTA believes an extension of time would facilitate its members' ability to formulate thoughtful and proactive information responsive to FTA's request for information.

Given the importance of public transportation safety and the need for a more fulsome dialogue on upcoming safety needs and priorities, FTA believes an extension of time is justified. Although APTA requested FTA extend the comment period for 60 additional days, commenters have already had 30 days in which to review and consider the questions posed in the RFI, and FTA believes an additional 30 days in which to submit comments is adequate, given FTA's desire to move forward expeditiously with this important safety initiative.

FTA is not republishing the Questions to the Public in this document. Instead, please refer to the July 15, 2021 RFI (86 FR 37400) to view the original questions regarding safety concerns and issues recommended for additional assessment and potential action at the Federal level.

Public Participation

How do I prepare and submit comments?

To ensure that your comments are filed correctly, please include the docket number provided [FTA-2021-0011] in your comments.

Please submit your comments, including any attachments, to the docket following the instructions given above under ADDRESSES. Please note, if you are submitting comments electronically as a PDF (Adobe) file, these documents must be scanned using an Optical Character Recognition process, thus allowing the Agency to search and copy certain portions of submissions. If submitting via mail, hand delivery, or courier, please provide two printed copies.

How can comments submitted by other people be read?

Comments received may be read at the Docket Management Facility, U.S. Department of Transportation, 1200 New Jersey Ave. SE, West Building Ground Floor, Room W12-140, Washington, DC 20590-0001. The hours of the docket are indicated above in the same location. Comments may also be viewed on the internet, identified by the docket number at the heading of this notice, at http://www.regulations.gov.

Please note, the RFI will serve as a planning document. The RFI should not be construed as policy, a solicitation for applications, or an obligation on the part of the Government.

Gail Lyssy,
Acting Associate Administrator for Safety.

[FR Doc. 2021-18066 Filed 8-20-21; 8:45 am]

BILLING CODE 4910-57-P